DEPARTMENT OF THE INTERIOR

Bureau of Land Management

[BLM_UT_FRN_MO45172464]

Notice of Availability of the Draft Resource Management Plan and Environmental Impact Statement for the Grand Staircase-Escalante National Monument in Utah

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Draft Resource Management Plan (RMP) and Draft Environmental Impact Statement (EIS) for the Grand Staircase-Escalante National Monument (GSENM or Monument), and by this notice is providing information announcing the opening of the comment period on the Draft RMP/EIS and the comment period on the BLM's proposed areas of critical environmental concern (ACECs) and proposed recreational target shooting closures.

DATES: This notice announces the opening of a 90-day comment period for the Draft RMP/EIS beginning with the date following the Environmental Protection Agency's (EPA's) publication of its Notice of Availability (NOA) of the Draft RMP/EIS in the Federal Register. The EPA usually publishes its NOAs on Fridays.

To afford the BLM the opportunity to consider comments in the Proposed RMP/Final EIS, please ensure that the BLM receives your comments prior to the close of the 90-day public comment period or 15 days after the last public meeting, whichever is later.

In addition, this notice also announces the opening of a 90-day comment period for proposed target shooting closures and a 90-day comment period for proposed ACECs. The BLM must receive your comments by November 9, 2023.

ADDRESSES: The Draft RMP/EIS is available for review on the BLM ePlanning project website at https://eplanning.blm.gov/eplanning-ui/project/2020343/510.

Written comments related to the GSENM Draft RMP/EIS may be submitted by any of the following methods:

• Website: https://eplanning.blm.gov/eplanning-ui/project/2020343/510.

• Mail: ATTN: GSENM RMP Project Manager, BLM Paria River District, 669 S Highway 89A, Kanab, UT 84741.

Documents pertinent to this proposal may be examined online at https://eplanning.blm.gov/eplanning-ui/project/2020343/570 and at the BLM Paria River District Office, 669 US-89A, Kanab, Utah 84741.

FOR FURTHER INFORMATION CONTACT: Scott M. Whitesides, Project Manager, telephone (801) 539-4054; address Bureau of Land Management Utah, 440 West 200 South, Suite 500, Salt Lake City, Utah 84101; email swhitesides@blm.gov. Individuals in the United States who are deaf, deafblind, hard of hearing, or have a speech disability may dial 711 (TTY, TDD, or TeleBraille) to access telecommunications relay services for contacting Mr. Whitesides. Individuals outside the United States should use the relay services offered within their country to make international calls to the point-of-contact in the United States.

SUPPLEMENTARY INFORMATION: This document provides notice that the BLM Utah State Director has prepared a Draft RMP/EIS, provides information announcing the opening of the comment period on the Draft RMP/EIS, and announces the comment period on the BLM's proposed ACEC and proposed recreational target shooting closures. The planning area is located in Kane and Garfield Counties, Utah, and encompasses approximately 1.87 million acres of public land.

Management of GSENM is currently guided by the 2020 GSENM Approved RMPs and 2020 Kanab Escalante Planning Area (KEPA) Approved RMP to the extent the management actions in the RMPs are consistent with Presidential Proclamation 10286 (Oct. 8, 2021).

Purpose and Need for the Planning Effort

The purpose and need serve to frame the identification of issues, alternatives development, and effects analyses. Proclamation 10286 directs the BLM to “prepare and maintain a new management plan for the entire monument” for the specific purposes of “protecting and restoring the objects identified [in Proclamation 10286] and in Proclamation 6920.”

The RMP's underlying purpose (40 CFR 1502.13) is to provide a management framework, including goals, objectives, and management direction, to guide GSENM management consistent with the protection and/or restoration of GSENM objects and the management direction provided in Proclamation 10286.

Alternatives Including the Preferred Alternative

The BLM has analyzed four alternatives in detail, including the no action alternative.

Alternative A, the no action alternative, represents current management from the 2020 GSENM Approved RMPs, which apply to the lands in GSENM as it existed under Proclamation 9682, and the 2020 KEPA Approved RMP, which applies to the lands that were excluded from GSENM by Proclamation 9682, to the extent that those management actions are consistent with Proclamation 10286. In some cases, decisions in the 2020 Approved RMPs are inconsistent with Proclamation 10286; in those instances, Alternative A has been modified to be consistent with Proclamation 10286.

Alternative B emphasizes flexibility in planning-level direction to maximize the potential for an array of discretionary actions that are compatible with the protection of GSENM objects.

Alternative C emphasizes the protection and maintenance of intact and resilient landscapes using a zonal management approach to selectively allow for discretionary uses in appropriate settings. Four management zones similar to those used in the 2000 GSENM Management Plan would be established: the front country zone, passage zone, outback zone, and primitive zone. Each of these management zones would provide certain management direction to guide resource protection and allowable uses; the intensity of resource protection and use would vary depending on the zone. Under Alternative C, the designation of management zones would serve primarily as a tool for managing visitation and allowable uses while also protecting GSENM objects.

Alternative D strives to maximize natural processes by minimizing active management and limiting discretionary uses. Land use allocations would minimize discretionary uses, including recreation, livestock grazing, rights-of-way (ROWs), and activities under special recreation permits. This alternative would also constrain management actions to emphasize natural conditions, such as passive vegetation management.

The BLM further considered two additional alternatives but dismissed these alternatives from detailed analysis as explained in the Draft RMP/EIS.

The State Director has identified Alternative C as the preferred alternative. Alternative C was found to best meet the State Director's planning guidance and, therefore, was selected as the preferred alternative because it provides goals, objectives, and management direction determined to be most effective at resolving planning issues, protecting monument objects, balancing resource uses, and meeting the purpose and need.

Mitigation

The BLM will identify, analyze, and consider best management practices to mitigate the reasonably foreseeable impacts to resources and monument objects. The Draft EIS analyzes all alternatives and, in accordance with 40 CFR 1502.14(e), will include appropriate mitigation measures (best management practices) not already included in the proposed plan or alternatives. Best management practices may include measures to avoid, minimize, rectify, reduce, or eliminate reasonably foreseeable impacts over time, and may be considered at multiple scales, including the landscape scale.

ACECs

Consistent with land use planning regulations at 43 CFR 1610.7-2(b), the BLM is announcing a comment period on the ACECs proposed for designation, which will be open for 90 days. Comments may be submitted using any of the methods listed in the ADDRESSES section.

The proposed ACECs included in the preferred alternative are:

• Little No Man's Mesa Research Natural Area (RNA)—approximately 50 acres. Designation proposed to protect vegetation and provide opportunities for scientific research. Identified special management would include prohibiting campfires, camping, ROWs, and recreational target shooting and making the area unavailable for livestock grazing.

• No Man's Mesa RNA—approximately 2,800 acres. Designation proposed to protect vegetation resources and provide opportunities for scientific research. Identified special management would include prohibiting campfires and recreational target shooting, making the area unavailable for livestock grazing, and closing the area to off-highway vehicles.

• Little Spring Point RNA—approximately 300 acres. Designation proposed to protect vegetation resources and provide opportunities for scientific research. Special management would include prohibiting campfires, camping, ROWs, and recreational target shooting and making the area unavailable for livestock grazing.

• Fiftymile Mountain RNA—approximately 56,800 acres. Designation proposed to protect cultural resources and provide opportunities for scientific research. Special management would include camping by permit only, prohibiting ROWs and recreational target shooting, and requiring monitoring to ensure the appropriate level of grazing, including, if necessary, no grazing for the protection of cultural resources.

The preferred alternative does not propose to designate the following potential ACECs:

• Warm Creek ACEC.

• Willis Creek ACEC.

Dingell Act Proposed Target Shooting Closures

In accordance with the John D. Dingell, Jr. Conservation, Management, and Recreation Act of 2019 (Dingell Act, Pub. L. 116-9, Section 4103), the BLM is announcing the opening of a public comment period on the proposed recreational target shooting closures within the Monument, which will be open for 90 days. The preferred alternative would close approximately 1,215,100 acres to recreational target shooting to protect GSENM objects. Comments may be submitted using any of the methods listed in the ADDRESSES section.

Schedule for the Decision-Making Process

The BLM will provide additional opportunities for public participation consistent with the NEPA and land use planning processes, including a 30-day public protest period and a 60-day Governor's consistency review on the Proposed RMP. The Proposed RMP/Final EIS is anticipated to be available for public protest in April 2024 with a Record of Decision and Approved RMP in July 2024.

The BLM will hold a total of five public meetings. Two meetings will be held virtually, and three meetings will be conducted in-person: in Kanab, Panguitch, and Escalante, Utah. The dates and locations of these meetings will be announced at least 15 days in advance through local media, social media, newspapers, and the ePlanning website (see ADDRESSES).

The BLM will continue to consult with Indian Tribal Nations on a government-to-government basis in accordance with Executive Order 13175, BLM Manual Section 1780, and other Departmental policies. Tribal concerns, including impacts on Indian trust assets and potential impacts to cultural resources, will be given due consideration.

You may submit comments on the Draft RMP/EIS in writing to the BLM at any public meetings or to the BLM using one of the methods listed in the ADDRESSES section. To be considered, comments must be received by the end of the 90-day comment period. The ePlanning website (see ADDRESSES) includes background information on GSENM and the planning process.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2, 43 CFR 1610.7-2)

Gregory Sheehan,
State Director.

[FR Doc. 2023-17203 Filed 8-10-23; 8:45 am]

BILLING CODE 4331-25-P